DEPARTMENT OF HEALTH AND HUMAN SERVICES

Office of the National Coordinator for Health Information Technology; American Health Information Community Meeting

ACTION: Change in meeting location to California.

SUMMARY: This notice announces the 12th meeting of the American Health Information Community in accordance with the Federal Advisory Committee Act (Pub. L. No. 92-463, 5 U.S.C., App.). The American Health Information Community will advise the Secretary and recommend specific actions to achieve a common interoperability framework for health information technology (IT).

DATES: March 13, 2007, from 8 a.m. to 1:30 p.m. (Pacific time).

New Address: Computer History Museum, 1401 N. Shoreline Boulevard, Mountain View, California 94043.

For Further Information: Visit http://www.hhs.gov/healthit/ahic.html.

SUPPLEMENTARY INFORMATION: The meeting will include presentations by the Quality Workgroup; Population Health/Clinical Care Connections Workgroup; Consumer Empowerment Workgroup; and Confidentiality, Privacy and Security Workgroup. It will also feature a panel presentation on Privacy and Security issues.

The general public is invited to participate in person at the Computer History Museum in Mountain View, CA. Alternatively, the public may participate remotely via the Web. The Community meeting will be available on the NIH Web site at: http://www.videocast.nih.gov/.

If you have special needs for the meeting, please contact (202) 690-7151.

Dated: February 21, 2007.
Judith Sparrow,
Director, American Health Information Community, Office of Programs and Coordination, Office of the National Coordinator for Health Information Technology.

[FR Doc. 07-914 Filed 2-28-07; 8:45 am]

BILLING CODE 4150-24-M